DEPARTMENT OF HOMELAND SECURITY

Coast Guard

[Docket No. USCG-2011-0357]

Cruise Vessel Safety and Security Act of 2010, Available Technology

AGENCY: Coast Guard, DHS.

ACTION: Notice of request for comments.

SUMMARY: The United States Coast Guard is soliciting public comment on the availability of technology to meet certain provisions of the Cruise Vessel Security and Safety Act of 2010(CVSSA), specifically related to video recording and overboard detection technologies. Public comment is necessary in order to assist the Coast Guard with assessing which requirements should be addressed in guidance and regulations implementing the CVSSA.

DATES: Comments and related material must either be submitted to our online docket via http://www.regulations.gov on or before July 25, 2011 or reach the Docket Management Facility by that date.

ADDRESSES: You may submit comments identified by Coast Guard docket number USCG-2011-0357 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, call or e-mail Lieutenant Commander Latasha Pennant, Office of Design and Engineering Standards (CG-5211), U.S. Coast Guard Headquarters, by telephone at 202-372-1358, or by e-mail at Latasha.E.Pennant@uscg.mil. If you have questions on viewing or submitting material to the docket, call Renee V. Wright, Program Manager, Docket Operations, telephone 202-366-9826.

SUPPLEMENTARY INFORMATION:

Request for Comments

We encourage you to participate by submitting comments. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2011-0357) and give the reason for each Comment. You may submit your comments by electronic means, mail, fax, or delivery to the Docket Management Facility at the address under ADDRESSES; but please submit your comments by only or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this notice, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Basis and Purpose

On July 27, 2010, Congress enacted the Cruise Vessel Safety and Security Act of 2010 (CVSSA) (Pub. L. 111-207). The CVSSA amended Title 46 U.S.C. Chapter 35 by adding sections 3507 (Passenger vessel security and safety requirements) and 3508 (Crime scene preservation training for passenger vessel crewmembers). The CVSSA prescribes security and safety requirements for passenger vessels with overnight accommodations for more than 250 passengers, not engaged in a coastwise voyage and that embarks and disembarks passengers in the United States. 46 U.S.C. 3507(k). Some of the safety and security concerns addressed in the Act include: Updated ship design; providing public access to information regarding crime aboard cruise ships; improved precautions, response, medical care and support for victims of sexual assault; and preservation of evidence necessary to prosecute criminals.

The Coast Guard intends to promulgate regulations and/or policy when appropriate to comply with, or clarify as needed, the requirements set forth in the CVSSA. This Notice is soliciting comments from the public on two mandates of the CVSSA: Overboard detection technology and video surveillance. Specifically, 46 U.S.C. 3507(a)(1)(D) mandates the cruise vessel shall integrate technology that can be used for capturing images of passengers or detecting passengers who have fallen overboard, to the extent that such technology is available. Under 46 U.S.C. 3507(b) the cruise vessel owner shall maintain a video surveillance system to assist in documenting crimes that occur on the vessel, and provide law enforcement officials in the course and scope of an investigation a copy of the video records if needed.

Questions: The Coast Guard is asking for public comment on the following questions. It would be helpful if commenters answer the questions as specifically as possible, and then provide explanations, if any, for the responses.

(1) If applicable, what is your position in the maritime community? (Please be as specific as possible, e.g., captain of a cruise of vessels, vessel security officer, owner/operator of cruise vessel, past/future passenger, advocacy group, professional organization, etc.)

(2) If you work in the maritime community, do you:

a. Use equipment to detect persons falling overboard? If yes, what is the equipment, and how reliable is the equipment?

b. What alternative source(s) for detecting persons falling overboard would you recommend? How would you rate the alternative source(s) in terms of: (A) User cost and (B) reliability and usefulness of the information?

(3) Do industry best practices for placement and retention of video recording devices exist? If yes, please specify what they are and how effective they have been in helping law enforcement officials prosecute offenders.

Comments regarding these provisions and any other pertinent matters brought to our attention during the comment period will be taken into account in our future actions regarding the issues raised by these questions. We encourage you to provide your comments as we move forward with implementing the provisions of the CVSSA.

Authority: This notice is issued under authority of 5 U.S.C. 552(a).

Dated: May 20, 2011.
John Nadeau,
Chief, Office of Design and Engineering Standards (CG-521).

[FR Doc. 2011-12988 Filed 5-24-11; 8:45 am]

BILLING CODE 9110-04-P